DEPARTMENT OF HEALTH AND HUMAN SERVICES

National Institutes of Health

Proposed Collection; 60-Day Comment Request; Multidisciplinary Treatment Planning (MTP) Within the National Cancer Institute (NCI) Community Cancer Centers Program

Summary: In compliance with the requirement of Section 3506(c)(2)(A) of the Paperwork Reduction Act of 1995, for opportunity for public comment on proposed data collection projects, the National Cancer Institute (NCI), National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and For Further Information: To obtain a copy of the data collection plans and instruments, submit comments in writing, or request more information on the proposed project, contact: Irene Prabhu Das, Division of Cancer Control & Population Sciences, National Cancer Institute, 9609 Medical Center Drive, Room3E-518, Rockville, MD 20850-9704 or call non-toll-free number 240-276-6799 or Email your request, including your address to: prabhudasi@mail.nih.gov. Formal requests for additional plans and instruments must be requested in writing.

Comment Due Date: Comments regarding this information collection are best assured of having their full effect if received within 60 days of the date of this publication.

Proposed Collection: Multidisciplinary Treatment Planning (MTP) within the NCI Community Cancer Centers Program (NCI), 0925—NEW, National Cancer Institute (NCI), National Institutes of Health (NIH).

Need and Use of Information Collection: The aim of this data collection is to characterize how NCI Community Cancer Centers Program (NCCCP) hospitals define, structure, and implement multidisciplinary treatment planning (MTP), which initiates a coordinated approach to multidisciplinary care. The web-based, organizational survey will gather data on sites' definitions and terms for multidisciplinary treatment planning, composition of provider teams, meeting process, and patient involvement in the process. Information collected from NCCCP hospitals will add to the knowledge being generated and provide the foundation for research on multidisciplinary care in cancer. A total of 21 hospitals participating in the NCCCP through June 2014 will be requested to complete the survey.

OMB approval is requested for 1 year. There are no costs to respondents other than their time. The total estimated annualized burden hours are 22.

Estimated Annualized Burden Hours
Form name | Types of respondents | Number of respondents | Number of responses per respondent | Average burden per response (in hours) | Total annual burden hours
Survey | Private Sector: Not for Profit NCI Community Cancer Center Program Hospitals | 21 | 1 | 1 | 21
Telephone Reminder |  | 21 | 1 | 2/60 | 1

Dated: October 24, 2013.
Vivian Horovitch-Kelley,
NCI Project Clearance Liaison, National Institutes of Health.

[FR Doc. 2013-26020 Filed 10-31-13; 8:45 am]

BILLING CODE 4140-01-P